DEPARTMENT OF DEFENSE

Department of the Navy

[Docket ID: USN-2010-0025]

Privacy Act of 1974; System of Records

AGENCY: Department of the Navy, DoD.

ACTION: Notice to add a new system of records.

SUMMARY: The Department of the Navy proposes to add a new system of records to its inventory of record systems subject to the Privacy Act of 1974 (5 U.S.C. 552a), as amended.

DATES: The changes will be effective on August 23, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam (202) 685-6545.

SUPPLEMENTARY INFORMATION: The Department of the Navy systems of records notices subject to the Privacy Act of 1974 (5 U.S.C. 552a), as amended, have been published in the Federal Register and are available from Mrs. Miriam Brown-Lam, HEAD, FOIA/Privacy Act Policy Branch, the Department of the Navy, 2000 Navy Pentagon, Washington, DC 20350-2000.

The proposed systems report, as required by 5 U.S.C. 552a(r) of the Privacy Act of 1974, as amended, was submitted on July 2, 2010, to the House Committee on Government Report, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: July 19, 2010.
Mitchell S. Bryman,
Alternate OSD Federal Register Liaison Officer, Department of Defense.

N03501-3

SYSTEM NAME:

Readiness and Cost Reporting Program (RCRP) Records.

SYSTEM LOCATION:

Defense Enterprise Computing Center (DECC), 5450 Carlisle Pike, Mechanicsburg, PA 17050-0975.

CATEGORIES OF INDIVIDUALS COVERED BY THE SYSTEM:

Navy active duty and reserve personnel assigned to units within the Navy Expeditionary Combat Command (NECC) organization.

CATEGORIES OF RECORDS IN THE SYSTEM:

Name, last four digits of Social Security Number (SSN), duty station, Unit Identification Code, rate, grade, designator, Navy Enlisted Code, Navy Officer Billet Classification Code, Active Duty start date, projected rotation Date, End Active Obligated Service, gear issued, qualifications (courses, graduation dates and expirations) and readiness related status information (medical readiness, physical readiness, administrative status, availability, deployability). Additionally the system maintains RCRP user account and authorization information (user identifier, user role/privileges and security questions).

AUTHORITY FOR MAINTENANCE OF THE SYSTEM:

10 U.S.C. 5013, Secretary of the Navy; 10 U.S.C. 117, Readiness Reporting System: Establishment; Reporting to Congressional Committees; DoD Directive 5149.2, Senior Readiness Oversight Council; DoD Directive 7730.65, Department of Defense Readiness Reporting System; and OPNAV Instruction 3501.36, Defense Readiness Reporting System—Navy (DRRS-N); and E.O. 9397 (SSN) as amended.

PURPOSE(S):

RCRP is a readiness reporting system based on Mission Essential Tasks (METs) which provides a standardized, enterprise-wide capability for the Navy Expeditionary Combat Command (NECC) operating forces to measure, display and report the readiness status of personnel, equipment, supply, training and ordnance resources and meet Defense Readiness Reporting System—Navy (DRRS-N) requirements. RCRP provides Commanders at appropriate levels within NECC with the ability to visualize the readiness of their units and subordinate units based on Chain of Command construct and associated permissions/roles in response to mission needs.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD ‘Blanket Routine Uses' that appear at the beginning of the Navy's compilation of system of records notices apply to this system.

POLICIES AND PRACTICES FOR STORING, RETRIEVING, ACCESSING, RETAINING, AND DISPOSING OF RECORDS IN THE SYSTEM:

STORAGE:

Records are stored on electronic storage media.

RETRIEVABILITY:

Records about individuals may be retrieved using a combination of name, geographic and demographic characteristics (such as name, last four digits of Social Security Number (SSN), grade, Unit Identification Code, and duty station) as inputs.

SAFEGUARDS:

Computerized records are maintained in a controlled area accessible only to authorized personnel. Entry to these areas is restricted to those personnel with a valid requirement and authorization to enter. Physical entry is restricted by the use of locks, guards, and administrative procedures. Access to personal information is restricted to those who require the records in the performance of their official duties. Access to personal information is further restricted by the use of passwords and Common Access Card (CAC). All individuals to be granted access to this system of records are to have received Information Assurance and Privacy Act training.

RETENTION AND DISPOSAL:

Records are destroyed when 2 years old by erasing, deleting or overwriting.

SYSTEM MANAGER(S) AND ADDRESS:

Commander, Navy Expeditionary Combat Command, 1575 Gator Blvd, Joint Expeditionary Base Little Creek, Virginia Beach, VA 23459-3024.

NOTIFICATION PROCEDURE:

Individuals seeking to determine whether this system of records contains information about themselves should address written inquiries to Commander, Navy Expeditionary Combat Command, Code (N8), 1575 Gator Blvd, Joint Expeditionary Base Little Creek, Virginia Beach, VA 23459-3024.

The request should be signed and include full name, last four digits of Social Security Number (SSN), grade, Unit Identification Code, duty station and a complete mailing address. The system manager may require an original signature or a notarized signature as a means of proving the identity of the individual requesting access to the records.

RECORD ACCESS PROCEDURES:

Individuals seeking access to records about themselves contained in this system of records should address written inquiries to the Commander, Navy Expeditionary Combat Command, Code (N8), 1575 Gator Blvd, Joint Expeditionary Base Little Creek, Virginia Beach, VA 23459-3024.

The request should be signed and include full name, last four digits of Social Security Number (SSN), grade, Unit Identification Code, duty station and a complete mailing address. The system manager may require an original signature or a notarized signature as a means of proving the identity of the individual requesting access to the records.

CONTESTING RECORD PROCEDURES:

The Navy's rules for accessing records, and for contesting contents and appealing initial agency determinations are published in Secretary of the Navy Instruction 5211.5; 32 CFR part 701; or may be obtained from the system manager.

RECORD SOURCE CATEGORIES:

Individual, command personnel, and automated data systems for personnel and training.

EXEMPTIONS CLAIMED FOR THE SYSTEM:

None.

[FR Doc. 2010-17891 Filed 7-21-10; 8:45 am]

BILLING CODE 5001-06-P